DEPARTMENT OF ENERGY

Federal Energy Regulatory Commission

[Docket No. RD14-2-000]

Proposed Agency Information Collection

AGENCY: Federal Energy Regulatory Commission.

ACTION: Notice and request for comments.

SUMMARY: The Federal Energy Regulatory Commission (Commission) invites public comment in Docket No. RD14-2-000 on a proposed collection of information that the Commission is developing for submission to the Office of Management and Budget (OMB) pursuant to the Paperwork Reduction Act of 1995. Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

DATES: Comments regarding this proposed information collection must be received on or before March 31, 2014.

ADDRESSES: Comments, identified by docket number, may be filed in the following ways:

• Electronic Filing through http://www.ferc.gov. Documents created electronically using word processing software should be filed in native applications or print-to-PDF format and not in a scanned format.

• Mail/Hand Delivery: Those unable to file electronically may mail or hand-deliver an original of their comments to: Federal Energy Regulatory Commission, Secretary of the Commission, 888 First Street NE., Washington, DC 20426.

FOR FURTHER INFORMATION CONTACT: Ellen Brown may be reached by email at DataClearance@FERC.gov, telephone at (202) 502-8663, and fax at (202) 273-0873.

SUPPLEMENTARY INFORMATION: The proposed information collection in Docket No. RD14-2-000 relates to a proposed revision to the definition of bulk electric system, developed by the North American Electric Reliability Corporation (NERC), and submitted to the Commission for approval. NERC's petition related to the revised definition of bulk electric system is pending before the Commission. The proposed revision modifies the definition of bulk electric system in response to Commission directives in Order Nos. 773 and 773-A as well as some other clarifying revisions.¹ The information collection requirements contained in the definition of bulk electric system are contained in FERC-725J (OMB Control Number 1902-0259).

¹ Revisions to Electric Reliability Organization Definition of Bulk Electric System and Rules of Procedure, Order No. 773, 141 FERC ¶ 61,236 (2012); order on reh'g, Order No. 773-A, 143 FERC ¶ 61,053 (2013), order on reh'g and clarification, 144 FERC ¶ 61,174.

On December 20, 2012, the Commission issued Order No. 773, a Final Rule approving NERC's modifications to the definition of “bulk electric system” and the Rules of Procedure exception process to be effective July 1, 2013. On April 18, 2013, in Order No. 773-A the Commission largely affirmed its findings in Order No. 773. In Order Nos. 773 and 773-A the Commission directed NERC to modify the definition of bulk electric system in two respects: (1) Modify the local network exclusion (exclusion E3) to remove the 100 kV minimum operating voltage to allow systems that include one or more looped configurations connected below 100 kV to be eligible for the local network exclusion; and (2) modify the exclusions to ensure that generator interconnection facilities at or above 100 kV connected to bulk electric system generators identified in inclusion I2 are not excluded from the bulk electric system.

In its December 13, 2013 Petition, NERC proposed revisions to respond to the Commission directives. In addition, NERC revised inclusion I4 to include the collector system at the point of aggregation.² Therefore, the estimates for this information collection are based on the three proposed modifications.

² The bulk electric system definition components consist of the core definition, five inclusions and four exclusions. NERC does not propose any changes to the core definition, inclusion I3 or exclusion E2. The proposed changes chiefly affect exclusions E1 and E3 and inclusion I4. NERC also made minor clarifying changes to inclusions I1, I2, and I5 and exclusion E4. These minor changes do not affect the information collection and reporting requirements approved in Order Nos. 773 and 773-A.

The Commission estimates a modest decrease in information collection and reporting that would result from implementing the proposed revisions to the definition of bulk electric system. Specifically, the Commission estimates a decrease in information collection and reporting that would result from implementing NERC's proposed revisions to the definition of bulk electric system. The estimate is derived in NERC's alternative proposal in addressing the Commission's concern regarding low voltage looped configurations. NERC explains that its technical analysis shows that a 50 kV threshold for sub-100 kV loops does not affect the application of exclusion E1. NERC states that this approach will ease the administrative burden on entities as it negates the necessity for an entity to prove that they qualify for exclusion E1 if the sub-100 kV loop in question is less than or equal to 50 kV.³ This administrative burden falls into the category of “System Review and List Creation” as described in Order Nos. 773 and 773-A.⁴ NERC's technical justification has shown that a subset of low voltage loops (operating between 0 and 50 kV) do not provide parallel flows and thus qualify for exclusion E1.

³ NERC Petition at 19-25, Exhibit D at 2, 48-90.

⁴ System Review and List Creation corresponds to step 1 of NERC's proposed transition plan, which requires each U.S. asset owner to apply the revised bulk electric system definition to all elements to determine if those elements are included in the bulk electric system pursuant to the revised definition. See Order No. 773, 141 FERC ¶ 61,236 at P 330.

Because the E1 exclusion applies to low voltage loops operated below 50 kV, entities will no longer evaluate looped configurations for either the E3 network exclusion or the NERC exception process.⁵ Accordingly, we estimate a decrease of one engineering hour needed for “System Review and List Creation” for transmission owners and distribution providers, respectively. With respect to the revisions to inclusion I4, NERC states that the standard drafting team “identified the portions of the collector system which consistently provide a reliability benefit to the interconnected transmission network and are easily identified within collector systems.” ⁶ Thus, the Commission estimates no material change in information collection because the engineering time needed to evaluate the collector system component that NERC proposes to be included in the bulk electric system is a simple and straightforward determination of whether the collector system aggregates to greater than 75 MVA.

⁵ Cf., Order No. 773-A, 143 FERC ¶ 61,053 at P 128.

⁶ NERC Petition at 16.

Burden Statement: Public reporting burden for this proposed collection is estimated as:

RD14-2-000 (FERC-725J): Revision to the Definition of Bulk Electric System
| Number of respondents ⁷ | Number of responses per respondent | Total number of responses | Average burden hours per response | Estimated total year 1 burden reduction
| (A) | (B) | (A) × (B) = (C) | (D) | (C) × (D)
Transmission Owners (System Review and List Creation) | 333 | 1 | 333 | −1 | −333
Distribution Providers (System Review and List Creation) | 554 | 1 | 554 | −1 | −554
Total |  |  |  |  | −887

⁷ The number of respondents for transmission owners and distribution providers is based on the NERC Compliance Registry referenced in Order No. 773.

The total estimated decrease in cost burden to respondents (year 1 only) is $53,220; [i.e., −887 hours * $60 ⁸ = −$53,220].

⁸ The estimate for cost per hour for an electrical engineer is $60 (the average salary plus benefits) according to the Bureau of Labor Statistics at http://bls.gov/oes/current/naics2_22.htm.

Dated: January 24, 2014.
Kimberly D. Bose,
Secretary.

[FR Doc. 2014-01872 Filed 1-29-14; 8:45 am]

BILLING CODE 6717-01-P